DEPARTMENT OF HOMELAND SECURITY

Coast Guard

33 CFR Part 165

[Docket No. USCG-2021-0295]

Safety Zones; Recurring Safety Zones in Captain of the Port Sault Sainte Marie Zone for Events Beginning in July 2021

AGENCY: Coast Guard, DHS.

ACTION: Notice of enforcement of regulation.

SUMMARY: The Coast Guard will enforce established safety zones for maritime events starting in July 2021 to provide for the safety of life on navigable waterways. Our regulation for safety zones within the Captain of the Port Sault Sainte Marie Zone identifies the regulated area for these safety zones. During the enforcement periods, vessels must stay out of the established safety zone and may only enter with permission from the designated representative of the Captain of the Port Sault Sainte Marie.

DATES: The regulations in 33 CFR 165.918 will be enforced for the safety zones identified in Table 1 of the SUPPLEMENTARY INFORMATION section below for the dates and times specified.

FOR FURTHER INFORMATION CONTACT: If you have questions about this publication, call or email LT Deaven Palenzuela, Waterways Management division chief, Coast Guard Sector Sault Sainte Marie, U.S. Coast Guard; telephone 906-635-3223, email ssmprevention@uscg.mil.

SUPPLEMENTARY INFORMATION: The Coast Guard will enforce the safety zones in 33 CFR 165.918 as per the time, dates, and locations in Table 1.

Table 1
[Datum NAD 1983]
Event | Location | Event date
(6) National Cherry Festival Finale Fireworks, Traverse City, MI | All U.S. navigable waters of the West Arm of Grand Traverse Bay within the arc of a circle with an approximate 1,200-foot radius from the fireworks launch site located on a barge in position 46°46′12″ N, 085°37′06″ W | On July 10, 2021 from 10 p.m. to 10:30 p.m.
(7) Canada Day Celebration Fireworks; Sault Sainte Marie, MI | All U.S. navigable waters of the St. Marys River within an approximate 1,400-foot radius from the fireworks launch site, centered approximately 160 yards north of the U.S. Army Corp of Engineers Soo Locks North East Pier, at position 46°30′20.40″ N, 084°20′17.64″ W | On July 1, 2021 from 10 p.m. to 11 p.m.
(8) Marquette Fourth of July Celebration Fireworks, Marquette, MI | All U.S. navigable waters of Marquette Harbor within an approximate 1,200-foot radius of the fireworks launch site, centered in position 46°32′23.0″ N, 087°23′13.1″ W | On July 4, 2021 from 10:30 p.m. to 11 p.m.
(9) Munising Fourth of July Celebration Fireworks; Munising, MI | All U.S. navigable waters of South Bay within an approximate 800-foot radius from the fireworks launch site at the end of the Munising City Dock, centered in position: 46°24′50.08″ N, 086°39′08.52″ W | On July 4, 2021 from 7 p.m. to 12:30 a.m.
(10) Sault Sainte Marie Fourth of July Celebration Fireworks; Sault Sainte Marie, MI | All U.S. navigable waters of the St. Marys River within an approximate 1,000-foot radius around the eastern portion of the U.S. Army Corp of Engineers Soo Locks North East Pier, centered in position: 46°30′19.66″ N, 084°20′31.61″ W | On July 4, 2021 from 9:30 p.m. to 11 p.m. Rain date: July 5, 2021 from 9:30 p.m. to 11 p.m.
(11) Mackinac Island Fourth of July Celebration Fireworks; Mackinac Island, MI | All U.S. navigable waters of Lake Huron within an approximate 750-foot radius of the fireworks launch site, centered approximately 1000 yards west of Round Island Passage Light, at position 45°50′30″ N, 084°36′30″ W | On July 4, 2021 from 9:45 p.m. to 11 p.m.
(12) Harbor Springs Fourth of July Celebration Fireworks; Harbor Springs, MI | All U.S. navigable waters of Lake Michigan and Harbor Springs Harbor within the arc of a circle with an approximate 1,200-foot radius from the fireworks launch site located on a barge in position 45°25′30″ N, 084°59′06″ W | On July 4, 2021 from 10:15 p.m. to 10:45 p.m.
(13) Bay Harbor Yacht Club Fourth of July Celebration Fireworks; Petoskey, MI | All U.S. navigable waters of Lake Michigan and Bay Harbor Lake within the arc of a circle with an approximate 750-foot radius from the fireworks launch site located on a barge in position 45°21′50″ N, 085°01′37″ W | On July 4, 2021 from 10:15 p.m. to 10:45 p.m.
(14) Petoskey Fourth of July Celebration Fireworks; Petoskey, MI | All U.S. navigable waters of Lake Michigan and Petoskey Harbor, in the vicinity of Bay Front Park, within the arc of a circle with an approximate 1,200-foot radius from the fireworks launch site located in position 45°22′40″ N, 084°57′30″ W | On July 4, 2021 from 10 p.m. to 11 p.m.
(15) Boyne City Fourth of July Celebration Fireworks; Boyne City, MI | All U.S. navigable waters of Lake Charlevoix, in the vicinity of Veterans Park, within the arc of a circle with an approximate 1,400-foot radius from the fireworks launch site located in position 45°13′30″ N, 085°01′40″ W | On July 4, 2021 from 6 p.m. to 11 p.m.
(16) Alpena Fourth of July Celebration Fireworks; Alpena, MI | All U.S. navigable waters of Lake Huron within an approximate 1,000-foot radius of the fireworks launch site located near the end of Mason Street, South of State Avenue, at position 45°02′42″ N, 083°26′48″ W | On July 4, 2021 from 9 p.m. to 11 p.m.
(17) Traverse City Fourth of July Celebration Fireworks; Traverse City, MI | All U.S. navigable waters of the West Arm of Grand Traverse Bay within the arc of a circle with an approximate 1,200-foot radius from the fireworks launch site located on a barge in position 44°46′12″ N, 085°37′06″ W | On July 4, 2021 from 10 p.m. to 10:30 p.m. Rain date: July 5, 2021 from 10 p.m. to 10:30 p.m.
(18) Charlevoix Venetian Festival Friday Night Fireworks; Charlevoix, MI | All U.S. navigable waters of Lake Charlevoix, in the vicinity of Depot Beach, within the arc of a circle with an approximate 1,200-foot radius from the fireworks launch site located on a barge in position 45°19′08″ N, 085°14′18″ W | On July 23, 2021 from 10 p.m. to 11p.m.
(19) Charlevoix Venetian Saturday Night Fireworks; Charlevoix, MI | All U.S. navigable waters of Round Lake within the arc of a circle with an approximate 500-foot radius from the fireworks launch site located on a barge in position 45°19′03″ N, 085°15′18″ W | On July 24, 2021 from 10 p.m. to 11 p.m.

This action is being taken to provide for the safety of life on navigable waterways during the fireworks displays. The regulations for safety zones within the Captain of the Port Sault Sainte Marie Zone, § 165.918, apply for these fireworks displays.

This notice of enforcement is issued under authority of 33 CFR 165.918 and 5 U.S.C. 552(a). In addition to this notice of enforcement in the Federal Register, the Coast Guard will provide the maritime community with advance notification of this enforcement period via Broadcast Notice to Mariners or Local Notice to Mariners. If the Captain of the Port Sault Sainte Marie determines that the safety zone need not be enforced for the full duration stated in this notice he or she may use a Broadcast Notice to Mariners to grant general permission to enter the respective safety zone.

Dated: June 8, 2021.
A.R. Jones,
Captain, U.S. Coast Guard, Captain of the Port Sault Sainte Marie.

[FR Doc. 2021-12410 Filed 6-11-21; 8:45 am]

BILLING CODE 9110-04-P